DEPARTMENT OF THE INTERIOR

National Park Service

[NPS-WASO-NRNHL-0212-9677; 2280-665]

Landmarks Committee of the National Park System Advisory Board Meeting

AGENCY: National Park Service.

ACTION: Notice of Meeting.

SUMMARY: Notice is hereby given in accordance with the Federal Advisory Committee Act [5 U.S.C. Appendix (1988)], that a meeting of the Landmarks Committee of the National Park System Advisory Board will be held beginning at 10 a.m. on May 15, 2012, at the following location. The meeting will continue beginning at 9 a.m. on May 16, 2012.

DATES: May 15, 2012, at 10 a.m.; May 16 at 9 a.m.

Location: The Charles Sumner School Museum and Archives, 3rd Floor, The Richard L. Hurlbut Memorial Hall, 1201 17th Street NW., Washington, DC 20036.

FOR FURTHER INFORMATION CONTACT: Patricia Henry, National Historic Landmarks Program, National Park Service, 1849 C Street NW., (2280), Washington, DC 20240; Telephone (202) 354-2216; Email: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Mr. Ronald James, Chair, Dr. James M. Allan, Dr. Cary Carson, Dr. Darlene Clark Hine, Mr. Luis Hoyos, AIA, Dr. Barbara J. Mills, Dr. William J. Murtagh, Dr. Franklin Odo, Dr. William D. Seale, Dr. Michael E. Stevens.

The meeting will be open to the public. Pursuant to 36 CFR part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service, 1849 C Street NW. (2280), Washington, DC 20240; Email: Paul_Loether@nps.gov.

Before including your address, phone number, email address, or other personal identifying information in your comment, you should be aware that your entire comment—including your personal identifying information—may be made publicly available at any time. While you can ask us in your comment to withhold your personal identifying information from public review, we cannot guarantee that we will be able to do so.

The National Park System Advisory Board and its Landmarks Committee may consider the following nominations:

Nominations

California

• KNIGHT'S FERRY BRIDGE, Stanislaus County, CA

• U.S. COURT HOUSE AND POST OFFICE (COURT HOUSE FOR THE SOUTHERN DISTRICT OF CALIFORNIA), Los Angeles, CA

• U.S. POST OFFICE AND COURT HOUSE (JAMES R. BROWNING U.S. COURT OF APPEALS), San Francisco, CA

Colorado

• DENVER CIVIC CENTER, Denver, CO

• SANGRE DE CRISTO LAND GRANT HISTORIC DISTRICT, Costilla County, CO

Kansas

• BLACK JACK BATTLEFIELD, Douglas County, KS

Kentucky

• CAMP NELSON HISTORIC AND ARCHEOLOGICAL DISTRICT, Jessamine County, KY

New Jersey

• CAMP EVANS SIGNAL LABORATORY, Wall Township, NJ

New Mexico (also in Colorado)

• DENVER & RIO GRANDE RAILROAD SAN JUAN EXTENSION (CUMBRES & TOLTEC SCENIC RAILROAD), CO and NM

New York

• ADMIRAL FARRAGUT GRAVESITE, New York, NY

• HISPANIC SOCIETY OF AMERICA COMPLEX, New York, NY

Ohio

• DR. BOB'S HOME (DR. ROBERT AND ANNE SMITH HOUSE), Akron, OH

Pennsylvania

• HISTORIC MORAVIAN BETHLEHEM HISTORIC DISTRICT, Bethlehem, PA

Puerto Rico

• BACARDI DISTILLERY HISTORIC DISTRICT, Cataño, PR

Virginia

• HUMPBACK BRIDGE, Alleghany County, VA

Proposed Amendments to Existing Designations

• HAMILTON GRANGE, New York, NY (updated documentation and boundary revision).

Dated: February 29, 2012.
J. Paul Loether,
Chief, National Register of Historic Places and National Historic Landmarks Program, National Park Service, Washington, DC

[FR Doc. 2012-5723 Filed 3-8-12; 8:45 am]

BILLING CODE 4312-51-P